DEPARTMENT OF DEFENSE

Department of the Army, Corps of Engineers

Notice of Intent To Prepare a Joint Environmental Impact Statement/Environmental Impact Report for the San Francisco Bay to Stockton General Reevaluation Report, San Francisco Bay, California

AGENCY: Department of the Army, U.S. Army Corps of Engineers, DoD.

ACTION: Notice of intent.

SUMMARY: In accordance with the National Environmental Policy Act (NEPA), the U.S. Army Corps of Engineers (USACE) South Atlantic Division and the Port of Stockton are preparing an Environmental Impact Statement and Environmental Impact Report (EIS/EIR) to evaluate the efficiency of the movement of goods along the existing deep-draft navigation route extending from the Golden Gate, through San Pablo Bay and Carquinez Strait, to deep draft facilities at Avon, California. This Notice of Intent (NOI) represents a supplemental notice to the March 4, 2016, NOI released for the San Francisco Bay to Stockton Navigation Improvement Study. This supplemental NOI is being released to notify the public that the study scope has been reduced to only consider improvements within the portion of the navigation project extending from San Francisco Bay to Avon. Work is now being conducted on an EIS/EIR with a reduced scope and project footprint, which is anticipated to be issued for public review in 2018. This NOI also re-opens the public scoping period.

The 2016 NOI proposed to deepen the John F. Baldwin channel from the West Richmond Channel through the Pinole Shoal Channel, Bulls Head Reach and Suisun Bay Channel to New York Slough Channel to a maximum depth of 45 feet mean lower low water (MLLW) and the Stockton Deep Water Ship Channel to a maximum depth of 40 feet MLLW. As of September, 2017, the portion of the authorized navigation project to the east of Avon is no longer under consideration for formulation of navigation improvements.

The revised study area extends from Central San Francisco Bay to Avon only and includes the West Richmond Channel, Pinole Shoal Channel, and Bulls Head Reach portion of the Suisun Bay Channel (west of Avon). The current authorized depth of this study area is 45 feet mean lower low water (MLLW), but is currently maintained at 35 feet MLLW.

The forthcoming EIS/EIR is a single purpose navigation improvement project to evaluate incremental deepening to a maximum depth of 38 feet MLLW within the channel reaches of the revised study area only.

DATES: Submit comments concerning this notice on or before thirty days after this posting. There will be no additional public meeting in conjunction with this scoping period.

ADDRESSES: Mail written comments concerning this notice to: U.S. Army Corps of Engineers, Jacksonville District, Planning and Policy Division, Environmental Branch, P.O. Box 4970, Jacksonville, FL 32232-0019. Comment letters should include the commenter's physical mailing address and the project title.

FOR FURTHER INFORMATION CONTACT: Stacie Auvenshine, 904-314-6714 or email at Stacie.j.auvenshine@usace.army.mil.

SUPPLEMENTARY INFORMATION: This EIS/EIR is intended to be sufficient in scope to address the federal, state, and local requirements and environmental issues concerning the proposed activities and permit approvals.

Project Area and Background Information: The authorized San Francisco Bay to Stockton, California, navigation project includes the John F. Baldwin and Stockton Ship Channels, which extend 75 nautical miles from the Pacific Ocean, just outside the Golden Gate, to the Port of Stockton. Modern vessels transiting the channels can require up to 55 feet of draft when fully laden. Given that these channels are maintained at 35 feet MLLW, most vessels utilizing the navigation channels between San Francisco Bay and Avon must be “light-loaded” (i.e., less than fully loaded with cargo) to navigate the channels with sufficient under-keel clearance. Light-loading is inefficient and increases the transportation cost and overall cost of shipped products because more trips must be made to carry the same volume of cargo.

The revised study area includes the West Richmond Channel, Pinole Shoal Channel, Carquinez Strait, and the Bulls Head Reach portion of the Suisun Bay Channel, ending at Avon. These channels are currently maintained at 35 feet MLLW, although the channels have an authorized depth of 45 feet MLLW.

The Draft EIS/EIR will analyze the project alternatives described below:

No Action, in which dredging would not occur and all construction-related activities would be avoided. Maintenance dredging would continue annually or on an as-needed basis and the federal standard placement sites would continue to be used.

Deepening to 37 feet MLLW, which would deepen the study area to a depth of 37 feet MLLW with an additional 2 feet of overdepth for a maximum depth of 39 feet MLLW. To account for rapid shoaling, a sediment trap would be constructed at Bulls Head Reach by dredging an additional 6 feet (including 2 feet of overdepth) to 43 feet MLLW.

Deepening to 38 feet MLLW, which would deepen the study area to a depth of 38 feet MLLW with an additional 2 feet of overdepth for a maximum depth of 40 feet MLLW. Under this alternative, a sediment trap at Bulls Head Reach would be constructed by dredging an additional 6 feet (including 2 feet of overdepth) to 44 feet MLLW.

Under both deepening alternatives, the dredged material will be placed at one or more permitted and economically feasible beneficial reuse sites.

Purpose and Need: The purpose of the project is to provide more efficient deep-draft navigation operations in a manner that minimizes adverse environmental effects. The need for the project is to address vessel restrictions imposed by the existing channel depths, which are inadequate to accommodate vessels with drafts exceeding 35 feet MLLW.

Issues: The environmental analysis will consider the effects of deepening navigation channels in the study area on biological resources, sediments, air quality, greenhouse gas emissions, climate change, water quality, geology, sediments, hydraulics and hydrology, hazards, noise, utilities, navigation, transportation, land use, cultural and historic resources, aesthetics, recreation, and socioeconomics. The EIS/EIR will evaluate environmental justice and cumulative impacts and potentially other environmental issues.

Scoping Process: The USACE is seeking participation of all interested federal, state, and local agencies, Native American groups, and other concerned private organizations or individuals through this public notice. The purpose of the public scoping period is to solicit comments regarding the potential impacts, environmental issues, and alternatives associated with the proposed action to be considered in the Draft EIS/EIR; identify other significant issues; and provide other relevant information.

The public will have an additional opportunity to comment once the Draft EIS/EIR is released, which is anticipated to be in the summer of 2018. The U.S. Environmental Protection Agency will provide notice of the availability of the Draft EIS/EIR in the Federal Register and the USACE and Port of Stockton will provide a 45-day review period for the public, organizations, and agencies to review and comment on the Draft EIS/EIR. All interested parties should respond to this notice and provide a current address if they wish to be notified about circulation of the Draft EIS/EIR.

Brenda S. Bowen,
Army Federal Register Liaison Officer.

[FR Doc. 2017-26051 Filed 12-1-17; 8:45 am]

BILLING CODE 3720-58-P